DEPARTMENT OF HOMELAND SECURITY

Coast Guard

33 CFR Part 167

[USCG-2018-1058]

Port Access Route Study: Alaskan Arctic Coast; Reopening of Comment Period

AGENCY: Coast Guard, Homeland Security (DHS).

ACTION: Notification of reopening of commend period.

SUMMARY: The United States Coast Guard is reopening the comment period for the notice of study and request for comments for the Port Access Route Study: Alaskan Arctic Coast that we published on December 21, 2018. This action will provide the public with additional time and opportunity to provide the Coast Guard with information regarding the Port Access Route Study: Alaskan Arctic Coast. The comment period is extended until September 30, 2021.

DATES: The comment period for the document that published on December 21, 2018 (83 FR 65701), which was extended on September 4, 2019 (84 FR 46501), and January 13, 2020 (85 FR 1793), is reopened. Comments and related material must be received by the Coast Guard on or before September 30, 2021.

ADDRESSES: You may submit comments identified by docket number USCG-2018-1058 using the Federal eRulemaking Portal at https://www.regulations.gov. If your material cannot be submitted using https://www.regulations.gov, contact the person in the FOR FURTHER INFORMATION CONTACT section of this document for alternate instructions.

FOR FURTHER INFORMATION CONTACT: If you have questions about this document, please contact LCDR Michael Newell, Seventeenth Coast Guard District (dpw), at telephone number (907) 463-2263 or email Michael.D.Newell@uscg.mil, or Mr. David Seris, Seventeenth Coast Guard District (dpw), at telephone number (907) 463-2267 or email to David.M.Seris@uscg.mil, or LT Stephanie Alvarez, Seventeenth Coast Guard District (dpw), at telephone number (907) 463-2265 or email Stephanie.M.Alvarez@uscg.mil.

SUPPPLEMENTARY INFORMATION: On December 21, 2018, the Coast Guard published a notice of study and request for comments for the Port Access Route Study: Alaskan Artic Coast (83 FR 65701). The comment period in that document closed September 1, 2019. On September 4, 2019, the Coast Guard published a notification to extend the public comment period until January 30, 2020 (84 FR 46501). On January 13, 2020, the Coast Guard published a notification to extend the public comment period until June 30, 2020 (85 FR 1793). In this action, the Coast Guard is providing notice that the public comment period is reopened until September 30, 2021. The Coast Guard has reopened the comment period to provide adequate opportunity for public meetings in impacted Arctic communities, given recent COVID-19 impacts to travel. These discussions are vital to the Port Access Route Study and necessary to creating a well-informed proposal. The Port Access Route Study remains a high priority for the Coast Guard, critical to maintaining waterway safety in the Arctic. Documents mentioned in this document, and all public comments, are in our online docket at https://www.regulations.gov and can be viewed by searching the docket number “USCG-2018-1058”.

This document is issued under authority of 33 U.S.C. 1223(c) and 5 U.S.C. 552.

Dated: June 26, 2020.
Matthew T. Bell, Jr.,
Rear Admiral, U.S. Coast Guard, Commander, Seventeenth Coast Guard District.

[FR Doc. 2020-14270 Filed 7-2-20; 8:45 am]

BILLING CODE 4910-15-P